SMALL BUSINESS ADMINISTRATION

[Disaster Declaration #16183; Florida Disaster Number FL-00150 Declaration of Economic Injury]

Administrative Declaration of an Economic Injury Disaster for the State of Florida

AGENCY: U.S. Small Business Administration.

ACTION: Notice.

SUMMARY: This is a notice of an Economic Injury Disaster Loan (EIDL) declaration for the State of Florida, dated 11/13/2019.

Incident: Hurricane Dorian.

Incident Period: 08/28/2019 through 09/09/2019.

DATES: Issued on 11/13/2019.

Economic Injury (EIDL) Loan Application Deadline Date: 08/13/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Brevard, Broward, Clay, Collier, Duval, Flagler, Franklin, Hillsborough, Indian River, Lake, Manatee, Marion, Martin, Miami-Dade, Monroe, Nassau, Orange, Osceola, Palm Beach, Pinellas, Polk, Saint Johns, Saint Lucie, Seminole, Volusia

Contiguous Counties:

Florida: Alachua, Baker, Bradford, Citrus, Desoto, Glades, Gulf, Hardee, Hendry, Highlands, Lee, Levy, Liberty, Okeechobee, Pasco, Putnam, Sarasota, Sumter, Wakulla

Georgia: Camden, Charlton

The Interest Rates are:

| Percent
Businesses and Small Agricultural Cooperatives Without Credit Available Elsewhere | 4.000
Non-Profit Organizations without Credit Available Elsewhere | 2.750

The number assigned to this disaster for economic injury is 161830.

The States which received an EIDL Declaration # are Florida, Georgia.

(Catalog of Federal Domestic Assistance Number 59008)

Christopher Pilkerton,
Acting Administrator.

[FR Doc. 2019-25226 Filed 11-20-19; 8:45 am]

BILLING CODE 8026-03-P